DEPARTMENT OF THE INTERIOR

Fish and Wildlife Service

[Docket No. FWS-R4-ES-2019-0027; FXES11130400000EA-123-FF04EF1000]

Endangered and Threatened Wildlife; Receipt of Incidental Take Permit Application and Proposed Habitat Conservation Plan for the Sand Skink, Lake County, FL; Categorical Exclusion

AGENCY: Fish and Wildlife Service, Interior.

ACTION: Notice of availability; request for comments and information.

SUMMARY: We, the Fish and Wildlife Service, have received an application for an incidental take permit (ITP) under the Endangered Species Act. Sunterra Communities, LLC (applicant) is requesting a 5-year ITP for take of the federally listed sand skink incidental to construction. We request public comment on the application, which includes the proposed habitat conservation plan, as well as on our preliminary determination that the plan qualifies as “low-effect” under the National Environmental Policy Act. To make this determination, we used our environmental action statement and low-effect screening form, which are also available for review.

DATES: We must receive your written comments by May 20, 2019.

ADDRESSES: Obtaining Documents: You may obtain copies of the documents online in Docket No. FWS-R4-ES-2019-0027 at http://www.regulations.gov.

Submitting Comments: You may submit comments by one of the following methods:

• Online: http://www.regulations.gov. Follow the instructions for submitting comments on Docket No. FWS-R4-ES-2019-0027.

• U.S. mail or hand-delivery: Public Comments Processing; Attn: Docket No. FWS-R4-ES-2019-0027; U.S. Fish and Wildlife Service, MS: BPHC; 5275 Leesburg Pike; Falls Church, VA 22041-3803.

FOR FURTHER INFORMATION CONTACT: Erin M. Gawera, by telephone at 904-731-3121, via the Federal Relay Service at 800-877-8339, or via email at erin_gawera@fws.gov.

SUPPLEMENTARY INFORMATION: We, the Fish and Wildlife Service (Service), have received an application for an incidental take permit (ITP) under the Endangered Species Act (ESA; 16 U.S.C. 1531 et seq.). Sunterra Communities, LLC (applicant) is requesting a 5-year ITP for take of the federally listed sand skink (Neoseps reynoldsi) incidental to construction. We request public comment on the application, which includes the proposed habitat conservation plan (HCP), as well as on our preliminary determination that the HCP qualifies as “low-effect” under the National Environmental Policy Act (NEPA; 43 U.S.C. 4321 et seq.). To make this determination, we used our environmental action statement and low-effect screening form, which are also available for review.

The applicant requests a 5-year ITP to take sand skink incidental to the conversion of approximately 7.74 acres of occupied sand skink foraging and sheltering habitat for construction of a housing, commercial, and institutional development on a 1,680-acre project site. The site is located on parcels number 292126000100003000, 322126000100000101, 322126000100001800, 042226000200000300, 042226000300000600, 092226010502100000, 092226010501400001, 092226010503900000, and 092226010503900002 within Sections 28, 29, 32 & 33, Township 21 South, Range 26 East, and Sections 4, 5 & 9, Township 22 South, Range 26 East, Lake County, Florida. The project includes clearing, infrastructure building, and landscaping associated with construction. To mitigate for take under the ITP, the applicant proposes purchase 15.48 credits within the Lake Wales Ridge Conservation Bank or another Service-approved sand skink bank prior to the commencement of construction activities.

Public Availability of Comments

All comments, whether received electronically or via hard copy, will be posted on http://regulations.gov and become part of the decision record associated with this action. Before including your address, phone number, email address, or other personal identifying information in your comment, be aware that your entire comment—including your personal identifying information—may be made available to the public. While you can request that we withhold your personal identifying information, we cannot guarantee that we will be able to do so.

Our Preliminary Determination

We have determined that the applicant's proposal, including the proposed mitigation and minimization measures, would have minor or negligible effects on the sand skinks and the environment. Therefore, we have preliminarily determined that the ITP for this project would be “low effect” and qualify for categorical exclusion under NEPA. A low-effect HCP is one involving (1) minor or negligible effects on federally listed or candidate species and their habitats, and (2) minor or negligible effects on other environmental values or resources.

Next Steps

The Service will evaluate the ITP application and comments received to determine whether to issue the requested permit. We will also conduct an intra-Service consultation pursuant to section 7 of the ESA. After considering the above findings, we will determine whether the requirements of section 10(a)(1)(B) of the ESA have been met. If met, the Service will issue ITP no. TE13200D-0 to the applicant for incidental take of the sand skink.

Authority

The Service provides this notice under section 10 of the ESA (16 U.S.C. 1539) and NEPA regulation 40 CFR 1506.6.

Richard Rauschenberger,
Acting Field Supervisor, Jacksonville Field Office, Southeast Region.

[FR Doc. 2019-07768 Filed 4-17-19; 8:45 am]

BILLING CODE 4333-15-P